ENVIRONMENTAL PROTECTION AGENCY

40 CFR Part 52

[EPA-R06-OAR-2007-0924; FRL-9323-7]

Approval and Promulgation of Air Quality Implementation Plans, State of Louisiana

AGENCY: Environmental Protection Agency (EPA).

ACTION: Final rule.

SUMMARY: EPA is finalizing approval of portions of State Implementation Plan (SIP) revisions for the State of Louisiana. The rule revisions, which cover the years 1996-2006, were submitted by the State of Louisiana, and include formatting changes, regulatory wording changes, substantive or content changes, and incorporation by reference (IBR) of Federal rules. The overall intended outcome will make the approved Louisiana SIP consistent with current Federal and State requirements. We are approving the revisions in accordance with 110 of the Clean Air Act (CAA or Act) and EPA's regulations.

DATES: This rule is effective August 4, 2011.

ADDRESSES: EPA has established a docket for this action under Docket No. EPA-R06-OAR-2007-0924. All documents in the docket are listed in the http://www.regulations.gov index. Although listed in the index, some information is not publicly available, e.g., Confidential Business Information (CBI) or other information whose disclosure is restricted by statute. Certain other material, such as copyrighted material will be publicly available only in hard copy.

Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays.

Contact the person listed in the FOR FURTHER INFORMATION CONTACT paragraph below to make an appointment. If possible, please make the appointment at least two working days in advance of your visit. There will be a fee of 15 cents per page for making photocopies of documents. On the day of the visit, please check in at the EPA Region 6 reception area at 1445 Ross Avenue, Suite 700, Dallas, Texas 75202-2733.

FOR FURTHER INFORMATION CONTACT: Ms. Sandra Rennie, Air Planning Section (6PD-L), Environmental Protection Agency, Region 6, 1445 Ross Avenue, Suite 700, Dallas, Texas 75202-2733, telephone (214) 665-7367, fax (214) 665-7263, e-mail address rennie.sandra@epa.gov.

SUPPLEMENTARY INFORMATION: Throughout this document whenever “we,” “us,” or “our” is used, we mean EPA.

Table of Contents

I. What action is EPA taking?

II. What is being addressed in this document?

III. Why can we approve these revisions?

IV. What are some of the substantive rule changes?

V. What comments did we receive?

VI. Final Action

VII. Statutory and Executive Order Reviews

I. What action is EPA taking?

We are finalizing approval of revisions to the Louisiana SIP, submitted by the LDEQ from 1996-2006. The revisions affect the Louisiana Administrative Code, the official compilation of Agency rules for the State of Louisiana. The revisions apply to LAC 33:III, Chapters 1, 7, 9, 11, 13, 14, 15, 19, 21, 23, 25, 30, 60, and 61. These revisions were submitted for approval during the years 1996-2006. The revisions make corrections or changes that align the SIP with State and Federal regulations.

II. What is being addressed in this document?

The State of Louisiana submitted numerous SIP revisions for EPA approval from the years 1996 to 2006.

The revisions were submitted to EPA according to the schedule in Table 1.

Table 1—Louisiana Rule Revisions to the State Implementation Plans (SIP)
Submitted to EPA by the Governor of Louisiana or his designee on | For the rules adopted into the SIP during calendar year | Revisions to LAC 33:III Chapters
April 30, 1997 | 1996 | 1, 15, 21, 25, 29, 30, 31, 60, 61, 64.
July 25, 1997 | 1996 and earlier | 1, 2, 5, 7, 9, 11, 13, 21, 23, 25, 30, 31, 60, 64, 65.
June 22, 1998 | 1997 | 2, 5, 13, 15, 21, 23, 25.
February 2, 2000 | 1998 | 5, 6, 11, 15, 21, 23, 25.
January 27, 2003 | 1999-2001 | 2, 5, 6, 11, 19, 21, 61.
June 27, 2003 | 2002 | 5.
September 14, 2004 | 2003 | 9, 21.
June 3, 2005 | 2004 | 2, 21.
May 5, 2006 | 2005 | 2, 5, 6, 9, 11, 14, 15, 21, 22, 23.
June 15, 2005 | Baton Rouge Severe Area Rule Update | 5, 21, 22.
November 9, 2007 | 2006 | 1, 5, 7, 9, 23.

These cumulative revisions affect LAC 33:III, Chapters 1, 2, 5, 6, 7, 9, 11, 13, 14, 15, 19, 21, 22, 23, 25, 30, 60, 61, and 65. This action addresses revisions in all but Chapters 2, 5, 6, and 65.

The revisions being approved are comprised of format changes, nonsubstantive regulatory wording changes, content or substantive changes, and incorporations by reference (IBR) of Federal rules. Format changes are revisions that affect the overall structure and arrangement of the LAC. These changes, among other things, involve moving an item from one section to another, repealing and replacing whole chapters, renumbering, repositioning contents. Nonsubstantive regulatory wording changes are revisions that do not dramatically affect the content of the rule but do add clarity. These changes, among other things, may appear in the form of corrections for typographical errors, grammatical errors, minor language changes, updating revisions, and changing reference citations that clarify the current rule. Content or substantive changes are revisions that alter the original meaning of the rule in a noticeable or significant manner. These revisions, among other things, may be in the form of an addition of a compound on an exemption list, modifications to requirements, fee increases, or creation of new requirements. Incorporation by reference revisions make the State's rules consistent with Federal regulations by referring to the Federal requirements that apply.

The revisions being acted upon are described in detail in the Technical Support Document and listed in the Incorporation By Reference (IBR) Table located at the end of this document.

The most notable format changes were made in Chapters 60, 61, and 65. These Chapters were repealed and the contents moved to other existing chapters. Although we proposed to approve the repeal of Chapter 65, we will not be finalizing that repeal in this action. The contents of Chapter 65 were moved to Chapter 2, and we are not acting on Chapter 2 at this time. We will act on the repeal of Chapter 65 when we act on the revisions to Chapter 2. Highlights of certain content or substantive changes are summarized in section V.

Some revisions submitted by the state during the years of 1996-2006 are not being acted upon by the EPA at this time for several reasons: (1) EPA plans to review and act upon several revisions, such as Chapter 2 and Chapter 5, in a separate action; (2) Some submitted revisions did not require further action because they were either superseded by subsequent submittals, made moot by prior approvals, already approved (Chapter 6), replaced by other program rules (sections 1901-1935), or submitted for clarifying purposes; and (3) EPA is not acting on certain revisions in LAC 33:III, sections 927, 1109, 1507, 1509, 2103, 2104, 2107, 2120, 2129, 2133, 2160, 2531, and a resubmittal of 2156-2160 because the State requested that we not act on certain revisions in a letter dated January 25, 2011. In the last case, we find that not acting on these revisions does not affect the approvability of the other revisions under consideration. We are also not acting on LAC 33:III, sections 1901-1935 (vehicle inspection and maintenance) because the program for which these rules were written was never implemented, and we subsequently approved a substitute program in 67 FR 60594, September 26, 2002.

We note that in our proposal (February 25, 2011, 76 FR 10544) we inadvertently included in Table 2 a revision to Section 1507 that had been withdrawn by the State in the above-referenced letter dated January 25, 2011. We stated that this section had been withdrawn by the State in our proposal. Hence, section 1507 does not appear in the IBR Table at the end of this action.

III. Why can we approve these revisions?

The rule revisions submitted were examined for consistency with Federal policy, regulations, and the Clean Air Act. Each rule revision referred to in the IBR Table was reviewed separately and found to be approvable on its own merits. A detailed evaluation of each of the approved rules is contained in the Technical Support Document for this rulemaking.

IV. What are some of the substantive rule changes?

In Chapter 7, ambient air quality standards were updated to reflect Federal standards that were current at the time of the revision.

All of chapter 19 was repealed. This chapter contained vehicle inspection and maintenance (I/M) rules that became obsolete when the I/M program was finally authorized and administered under the existing rules of the state safety inspection program. The I/M rules in chapter 19 had not been submitted for approval into the SIP, so no backsliding is implied by the repeal. In addition, clean fuel fleet rules were repealed from this chapter. Although these rules had been approved into the SIP, stationary source VOC (volatile organic compound) rules were substituted for the clean fuel fleet program, so no backsliding occurred. See 64 FR 38577, July 19, 1999.

There were a number of substantive changes in chapter 21. Under storage of volatile organic compounds (section 2103) LDEQ added (1) VOC requirements for Calcasieu and Pointe Coupee Parishes, (2) other acceptable methods for determining true vapor pressure, (3) additional record keeping requirements to verify compliance, and (4) an allowance for maintaining VOC control equipment. New requirements for crude oil and condensate in section 2104 add VOC control requirements for “flash gas” emissions from facilities that produce oil and natural gas, process natural gas, and transmit natural gas, which are consistent with the CAA.

The marine vapor recovery exemption in section 2108 is lowered to 25 tons per year to ensure RACT (Reasonably Available Control Technology) is in place. Similarly, the revisions to the waste gas disposal rules in section 2115 make sure RACT is in place for these vent streams.

The list of compounds exempt from VOC control requirements in section 2117 is expanded to keep the list up to date with the Federal list of exempted compounds. Changes in section 2122, Fugitive Emissions Control for Ozone Nonattainment Areas, improve the rule by making it more consistent with the Federal Leak Detection and Repair Program (LDAR) requirements.

The VOC requirements for vapor degreasers are strengthened in section 2125. Section 2129 concerning perchlorethylene is rescinded because EPA exempted “perc” from VOC control. St. Mary Parish is now included in the areas where filling of gasoline storage vessels is controlled in section 2131. A revision to section 2133 lowers the exemption threshold for gasoline bulk plants.

The following sections change the major source threshold from 50 to 25 tons per year (tpy) in the nonattainment parishes and 50 tpy in Pointe Coupee and Calcasieu Parishes: section 2143 pertaining to graphic arts and rotogravure and flexographic processes, 2147 that limits the VOC emissions from SOCMI (synthetic organic chemical manufacturing industry) reactor processes and distillation operations, 2149 that limits the VOC emissions from batch processes, 2151 that limits VOC emissions from cleanup solvent processes, and 2153 that limits VOC emissions from industrial wastewater. By lowering the applicability level, the revisions ensure that RACT is in place on 25 tpy and greater sources as required for severe ozone nonattainment areas.

V. What comments did we receive?

We received comments in support of this rulemaking from the Louisiana Chemical Council. We also received a comment letter from a private citizen that was not relevant to this rulemaking.

Lastly, we received comments from the Environmental Integrity Project (EIP). In general, EIPs comments focus on whether Louisiana has adequate funding to properly implement the proposed SIP revisions and that the state's Title V fees are inadequate. We believe the comments are not relevant to the specific rule revisions being approved here. These rule revisions are in large part administrative type changes and revisions that provide clarity to the state's base rules. They do not address fees or Title V. The EIP also commented that the revisions being approved in this action interfere with applicable requirements of the Clean Air Act. The commenter did not provide specific examples where the revisions interfere with applicable requirements. The Technical Support Document found in the Docket examines in detail each rule revision to determine if the change adversely impacts the SIP. The revisions fall into four categories listed above in section III. A majority of the revisions are format changes, nonsubstantive word changes, or incorporation by reference of Federal rules. The rules that contain substantive revisions are summarized in section V of this document. For details on the substantive rule revisions please see the TSD. Based on the analyses in the TSD, we conclude that these SIP revisions do not interfere with applicable requirements of the Act.

VI. Final Action

We are finalizing approval of rule revisions to LAC 33:III, Chapters 1, 7, 9, 11, 13, 15, 19, 21, 22, 23, 25, 30, 60, and 61 as part of the Louisiana SIP as they appear in the IBR Table below.

VII. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this final action merely approves state law as meeting Federal requirements and does not impose additional requirements beyond those imposed by state law. For that reason, this final action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon monoxide, Hydrocarbons, Incorporation by reference, Intergovernmental relations, Lead, Nitrogen oxides, Ozone, Particulate matter, Reporting and recordkeeping requirements, Sulfur oxides, Volatile organic compounds.

Dated: June 10, 2011.
Al Armendariz,
Regional Administrator, Region 6.

40 CFR part 52 is amended as follows:

PART 52—[AMENDED]

1. The authority citation for part 52 continues to read as follows:

Authority: 42 U.S.C. 7402 et seq.

Subpart T—Louisiana

2. The table in § 52.970(c) entitled “EPA Approved Louisiana Regulations in the Louisiana SIP” is amended as follows:

a. Under Chapter 1, General Provisions, by revising entries for Section 111;

b. Under Chapter 7, Ambient Air Quality, by revising the entry for Section 701, and 709, and adding an entry for Section 711;

c. Under Chapter 9, General Regulations on Control of Emissions and Emission Standards, by removing the entry for Section 907 and by revising the entries for Section 918 and Section 919;

d. Under Chapter 11, Control of Emissions From Smoke, by revising the entries for Sections 1101, 1105, 1107 and 1109;

g. Under Chapter 13, Emission Standards for Particulate Matter, by revising the entries for Sections 1303, 1311, and Section 1319;

h. Under Chapter 14, Conformity, by revising the entry for Section 1410;

i. Under Chapter 15, Emission Standards for Sulfur Dioxide, by revising the entries for Section 1503 and Section 1511;

i. By removing the title and all entries for Chapter 19, Mobile Sources;

j. Under Chapter 21, Control of Emissions of Organic Compounds, by adding section 2104; by removing the heading “Subchapter E, Perchloroethylene Dry Cleaning Systems”; by removing the entry for Section 2129; and by revising the entries for Sections 2103, 2107, 2108, 2109, 2113, 2115, 2117, 2121, 2122, 2123, 2125, 2131, 2132, 2133, 2135, 2137, 2139, 2143, 2145, 2147, 2149, 2151, 2153, and by adding entries for Sections 2155, 2156, 2157, 2158, 2159, 2160, and 2199;

k. Under Chapter 22, Control of Emissions of Nitrogen Oxides (NOX), by revising the entry for Section 2201;

l. Under Chapter 23, Control of Emissions from Specific Industries, by revising the entry for Section 2301, 2303, and 2307;

m. By adding entries for Chapter 25, Miscellaneous Incineration Rules, adding Subchapter A, Scope and General Provisions;

n. By adding entries for Chapter 30, by adding Chapter 30, Standards of Performance for New Stationary Sources (NSPS;

o. Removing the title and all entries for Chapter 60, Test Methods—NSPS Division's Source Test Manual; and Chapter 61, Divisions Source Test Method.

The revised sections read as follows:

§ 52.970 Identification of plan.

* * * * *

(c) * * *

EPA Approved Regulations in Louisiana SIP
State citation | Title/subject | State approval date | EPA approval date | Comments
LAC Title 33. Environmental Quality Part III. Air
Chapter 1. General Provisions
| * * * * * * *
Section 111 | Definitions | 10/20/1995 | 7/05/2011 [Insert FR page number where document begins] | Definition of Undesirable Levels repealed.
Section 111 | Definitions | 12/20/1996 | 7/05/2011 [Insert FR page number where document begins] | Good Performance Level Particulate Matter Emissions Reference Method.
Section 111 | Definitions | 9/20/2006 | 7/05/2011 [Insert FR page number where document begins] | Ozone Exceedance.
| * * * * * * *
Chapter 7. Ambient Air Quality
Section 701.C | Purpose | 10/20/1995 | 7/05/2011 [Insert FR page number where document begins]
Section 709.A | Measurement of Concentrations—PM10, PM2.5, Sulfur Dioxide, Carbon Monoxide, Atmospheric Oxidants, Nitrogen Oxides, and Lead | 9/20/2006 | 7/05/2011 [Insert FR page number where document begins]
Section 711 | Tables 1, 1a, 2-Air Quality | 9/20/2006 | 7/05/2011 [Insert FR page number where document begins]
| * * * * * * *
Chapter 9. General Regulation on Control of Emissions and Emission Standards
| * * * * * * *
Section 918 | Recordkeeping and Annual Reporting | 10/20/2005 | 7/05/2011 [Insert FR page number where document begins]
Section 919-919.A.6 | Emissions Inventory | 2/20/2006 | 7/05/2011 [Insert FR page number where document begins]
Section 919.B.1 | Types of Inventories | 2/20/2006 | 7/05/2011 [Insert FR page number where document begins]
Section 919.B.2-919.B.5.g.v | Types of Inventories | 12/20/2003 | 7/05/2011 [Insert FR page number where document begins]
Section 919.C | Calculations | 2/20/2006 | 7/05/2011 [Insert FR page number where document begins]
Section 919. D.-F | Reporting Requirements Enforcement Fees | 12/20/2003 | 7/05/2011 [Insert FR page number where document begins]
| * * * * * * *
Chapter 11. Control of Emissions of Smoke
Section 1101.A | Control of Air Pollution from Smoke. Purpose | 10/20/1995 | 7/05/2011 [Insert FR page number where document begins]
Section 1105.A | Smoke from Flaring Shall Not Exceed 20 Percent Opacity | 7/20/2005 | 7/05/2011 [Insert FR page number where document begins]
Section 1107.A | Exemptions | 7/20/2005 | 7/05/2011 [Insert FR page number where document begins]
Section 1109.A | Control of Air Pollution from Outdoor Burning | 10/20/1995 | 7/05/2011 [Insert FR page number where document begins]
Section 1109.B | Control of Air Pollution from Outdoor Burning | 4/20/1998 | 7/05/2011 [Insert FR page number where document begins]
Section 1109.E.-ll09.F | Control of Air Pollution from Outdoor Burning | 4/20/1998 | 7/05/2011 [Insert FR page number where document begins]
| * * * * * * *
Chapter 13. Emission Standards for Particulate Matter (Including Standards for Some Specific Facilities)
Subchapter A. General
| * * * * * * *
Section 1303.A | Toxic Substances | 10/20/1995 | 7/05/2011 [Insert FR page number where document begins]
Section 1311.C.-1311.D | Emission Limits | 6/20/1997 | 7/05/2011 [Insert FR page number where document begins]
| * * * * * * *
Subchapter D | Refuse Incinerators | 10/20/1994 | 7/05/2011 [Insert FR page number where document begins]
| * * * * * * *
Section 1319 | Refuse Incinerators | 10/20/1994 | 7/05/2011 [Insert FR page number where document begins]
| * * * * * * *
Chapter 14. Conformity
| * * * * * * *
Section 1410.A.5.a.i | Criteria for Determining Conformity of General Federal Actions | 10/20/2005 | 7/05/2011 [Insert FR page number where document begins]
| * * * * * * *
Chapter 15. Emission Standards for Sulfur Dioxide
Section 1503 | Emission Standards for Sulfur Dioxide. Emission Limitations | 7/20/1998 | 7/05/2011 [Insert FR page number where document begins]
Section 1511.B | Continuous Emission Monitoring | 12/20/1996 | 7/05/2011 [Insert FR page number where document begins]
| * * * * * * *
Chapter 21. Control of Emission of Organic Compounds
Subchapter A. General
| * * * * * * *
Section 2103.A-2103.B | Storage of Volatile Organic Compounds | 5/20/1999 | 7/05/2011 [Insert FR page number where document begins]
Section 2103.C-2103.D.4 | Storage of Volatile Organic Compounds | 6/20/1996 | 7/05/2011 [Insert FR page number where document begins]
2103.D.4.a | Storage of Volatile Organic Compounds | 10/20/2005 | 7/05/2011 [Insert FR page number where document begins]
Section 2103.D.4.b.-2103.D.4.d | Storage of Volatile Organic Compounds | 8/20/2002 | 7/05/2011 [Insert FR page number where document begins]
Section 2103.G.1-2103.G.2 | Storage of Volatile Organic Compounds | 6/20/1996 | 7/05/2011 [Insert FR page number where document begins]
Section 2103.G.3-2103.G.5 | Storage of Volatile Organic Compounds | 12/20/1998 | 7/05/2011 [Insert FR page number where document begins]
Section 2103.H.2.a.-d | Storage of Volatile Organic Compounds | 12/20/1996 | 7/05/2011 [Insert FR page number where document begins]
Section 2103.H.3 | Storage of Volatile Organic Compounds | 2/20/1998 | 7/05/2011 [Insert FR page number where document begins]
Section 2103.I.6 | Storage of Volatile Organic Compounds | 12/20/1998 | 7/05/2011 [Insert FR page number where document begins]
Section 2103.I.7 | Storage of Volatile Organic Compounds | 8/20/2002 | 7/05/2011 [Insert FR page number where document begins]
Section 2104.A | Crude Oil and Condensate | 4/20/2004 | 7/05/2011 [Insert FR page number where document begins]
Section 2104.B.-2104.C.1 | Crude Oil and Condensate | 11/20/1997 | 7/05/2011 [Insert FR page number where document begins]
Section 2104.C.2.-2104.C.4 | Crude Oil and Condensate | 4/20/2004 | 7/05/2011 [Insert FR page number where document begins]
Section 2104.D | Crude Oil and Condensate | 11/20/1997 | 7/05/2011 [Insert FR page number where document begins]
Section 2104.E | Crude Oil and Condensate | 4/20/2004 | 7/05/2011 [Insert FR page number where document begins]
Section 2104.F.-2104.F.2.d | Crude Oil and Condensate | 11/20/1997 | 7/05/2011 [Insert FR page number where document begins]
Section 2104.G | Crude Oil and Condensate | 11/20/1997 | 7/05/2011 [Insert FR page number where document begins]
Section 2107.E.1.-2 | Volatile Organic Compounds—Loading | 12/20/1996 | 7/05/2011 [Insert FR page number where document begins]
Section 2108.A | Marine Vapor Recovery | 4/20/2004 | 7/05/2011 [Insert FR page number where document begins]
Section 2108.C.2.-2108.C.3 | Marine Vapor Recovery | 1/20/1998 | 7/05/2011 [Insert FR page number where document begins]
Section 2108.D.4 | Marine Vapor Recovery | 4/20/2004 | 7/05/2011 [Insert FR page number where document begins]
Section 2108.E.1.a.i.-ii. and E.1.b | Marine Vapor Recovery | 12/20/1996 | 7/05/2011 [Insert FR page number where document begins]
Section 2108.E.2 | Marine Vapor Recovery | 7/20/1998 | 7/05/2011 [Insert FR page number where document begins]
Section 2108.E.3. and E.5 | Marine Vapor Recovery | 12/20/1996 | 7/05/2011 [Insert FR page number where document begins]
Section 2108.F.1 | Marine Vapor Recovery | 10/20/2005 | 7/05/2011 [Insert FR page number where document begins]
Section 2109.C,1-4 | Oil/Water—Separation | 12/20/1996 | 7/05/2011 [Insert FR page number where document begins]
Section 2113.A | Housekeeping | 5/20/1999 | 7/05/2011 [Insert FR page number where document begins]
Section 2113.A.4 | Housekeeping | 10/20/2005 | 7/05/2011 [Insert FR page number where document begins]
Section 2115 | Waste Gas Disposal Introductory paragraph | 4/20/2004 | 7/05/2011 [Insert FR page number where document begins]
Section 2115.A.-2115.G | Waste Gas Disposal | 2/20/1998 | 7/05/2011 [Insert FR page number where document begins]
Section 2115.H.1.a | Waste Gas Disposal | 4/20/2004 | 7/05/2011 [Insert FR page number where document begins]
Section 2115.H.2.-2115.H.3 | Waste Gas Disposal | 2/20/1998 | 7/05/2011 [Insert FR page number where document begins]
Section 2115.I.1-4 | Waste Gas Disposal | 12/20/1996 | 7/05/2011 [Insert FR page number where document begins]
Section 2115.J | Waste Gas Disposal | 4/20/2004 | 7/05/2011 [Insert FR page number where document begins]
Section 2115.K.4 | Waste Gas Disposal | 2/20/1998 | 7/05/2011 [Insert FR page number where document begins]
Section 2115.M | Waste Gas Disposal | 2/10/1998 | 7/05/2011 [Insert FR page number where document begins]
Section 2117 | Exemptions | 2/20/1999 | 7/05/2011 [Insert FR page number where document begins]
Section 2121.A | Fugitive Emission Control | 8/20/2004 | 7/05/2011 [Insert FR page number where document begins]
Section 2121.B.1 | Fugitive Emission Control | 8/20/2004 | 7/05/2011 [Insert FR page number where document begins]
Section 2121.C.1.a.ii | Fugitive Emission Control | 7/20/2000 | 7/05/2011 [Insert FR page number where document begins]
Section 2121.C.3.b.-2121.C.3.c | Fugitive Emission Control | 8/20/2004 | 7/05/2011 [Insert FR page number where document begins]
Section 2121.C.4.h.i | Fugitive Emission Control | 1/20/1998 | 7/05/2011 [Insert FR page number where document begins]
Section 2121.D.1 | Fugitive Emission Control | 12/20/1995 | 7/05/2011 [Insert FR page number where document begins]
Section 2121.F | Fugitive Emission Control | 10/20/2005 | 7/05/2011 [Insert FR page number where document begins]
Section 2121.G | Fugitive Emission Control | 8/20/2004 | 7/05/2011 [Insert FR page number where document begins]
Section 2122.A.-2122A.1 | Fugitive Emission Control for Ozone Nonattainment Areas | 8/20/2004 | 7/05/2011 [Insert FR page number where document begins]
Section 2122.A.2-A.5 | Fugitive Emission Control for Ozone Nonattainment Areas | 8/20/2002 | 7/05/2011 [Insert FR page number where document begins]
Section 2122A.6-6.d | Fugitive Emission Control for Ozone Nonattainment Areas | 7/20/1998 | 7/05/2011 [Insert FR page number where document begins]
Section 2122B | Fugitive Emission Control for Ozone Nonattainment Areas Definitions | 11/20/1996 | 7/05/2011 [Insert FR page number where document begins] | Inaccessible Valve/Connector.
Section 2122B | Fugitive Emission Control for Ozone Nonattainment Areas Definitions | 12/20/1996 | 7/05/2011 [Insert FR page number where document begins] | Good Performance Level.
Section 2122B | Fugitive Emission Control for Ozone Nonattainment Areas Definitions | 8/20/2004 | 7/05/2011 [Insert FR page number where document begins] | Instrumentation System.
Section 2122C.1.a.-2122.C.1.b | Fugitive Emission Control for Ozone Nonattainment Areas | 8/20/2004 | 7/05/2011 [Insert FR page number where document begins]
Section 2122.C.1.c | Fugitive Emission Control for Ozone Nonattainment Areas | 11/20/1996 | 7/05/2011 [Insert FR page number where document begins]
Section 2122.C.1.d | Fugitive Emission Control for Ozone Nonattainment Areas | 7/20/1998 | 7/05/2011 [Insert FR page number where document begins]
Section 2122.C.4 | Fugitive Emission Control for Ozone Nonattainment Areas and Specified Parishes | 8/20/2004 | 7/05/2011 [Insert FR page number where document begins]
Section 2122.D.1.a | Fugitive Emission Control for Ozone Nonattainment Areas | 11/20/1996 | 7/05/2011 [Insert FR page number where document begins]
Section 2122.D.1.d-f | Fugitive Emission Control for Ozone Nonattainment Areas and Specified Parishes | 8/20/2004 | 7/05/2011 [Insert FR page number where document begins]
Section 2122.D.3.b | Fugitive Emission Control for Ozone Nonattainment Areas | 8/20/2004 | 7/05/2011 [Insert FR page number where document begins]
Section 2122.D.3.d | Fugitive Emission Control for Ozone Nonattainment Areas | 11/20/1996 | 7/05/2011 [Insert FR page number where document begins]
Section 2122.D.3.e | Fugitive Emission Control for Ozone Nonattainment Areas and Specified Parishes | 8/20/2004 | 7/05/2011 [Insert FR page number where document begins]
Section 2122.D.4.h | Fugitive Emission Control for Ozone Nonattainment Areas | 1/20/1998 | 7/05/2011 [Insert FR page number where document begins]
Section 2122.D.4.k.-1 | Fugitive Emission Control for Ozone Nonattainment Areas | 11/20/1996 | 7/05/2011 [Insert FR page number where document begins]
Section 2122.E.1.g | Fugitive Emission Control for Ozone Nonattainment Areas and Specified Parishes | 8/20/2004 | 7/05/2011 [Insert FR page number where document begins]
Section 2122.E.3.-5 | Fugitive Emission Control for Ozone Nonattainment Areas and Specified Parishes | 8/20/2004 | 7/05/2011 [Insert FR page number where document begins]
Section 2122.G | Fugitive Emission Control for Ozone Nonattainment Areas and Specified Parishes | 10/20/2005 | 7/05/2011 [Insert FR page number where document begins]
Subchapter B. Organic Solvents
Section 2123.B.1 | Organic Solvents | 7/20/1999 | 7/05/2011 [Insert FR page number where document begins] |
Section 2123.B.2 | Organic Solvents | 1/20/1998 | 7/05/2011 [Insert FR page number where document begins]
Section 2123.C | Organic Solvents | 1/20/1998 | 7/05/2011 [Insert FR page number where document begins]
Section 2123.C.11 | Organic Solvents | 5/20/1996 | 7/05/2011 [Insert FR page number where document begins]
Section 2123.C.11.b | Organic Solvents | 12/20/1997 | 7/05/2011 [Insert FR page number where document begins]
Section 2123.D.1 | Organic Solvents | 10/20/2005 | 7/05/2011 [Insert FR page number where document begins]
Section 2123.D.6 | Organic Solvents | 8/20/2002 | 7/05/2011 [Insert FR page number where document begins]
Section 2123.D.7.a | Organic Solvents | 4/20/2004 | 7/05/2011 [Insert FR page number where document begins]
Section 2123.E.1.-4 | Fugitive Emission Control for Ozone Nonattainment Areas and Specified Parishes | 12/20/1996 | 7/05/2011 [Insert FR page number where document begins]
Section 2123.E.6 | Organic Solvents | 7/20/1998 | 7/05/2011 [Insert FR page number where document begins]
Section 2123.G | Organic Solvents Definitions | 12/20/1997 | 7/05/2011 [Insert FR page number where document begins]
Section 2123.G | Organic Solvents Definitions | 1/20/1998 | 7/05/2011 [Insert FR page number where document begins]
Section 2123.H | Organic Solvents | 4/20/2004 | 7/05/2011 [Insert FR page number where document begins]
| * * * * * * *
Subchapter E. Vapor Degreasers
Section 2125.D | Vapor Degreasers | 4/20/2004 | 7/05/2011 [Insert FR page number where document begins]
Section 2125.E.1.-4 | Vapor Degreasers | 12/20/1996 | 7/05/2011 [Insert FR page number where document begins]
| * * * * * * *
Subchapter F. Gasoline Handling
Section 2131.A | Filling of Gasoline Storage Vessels | 12/20/1993 | 7/05/2011 [Insert FR page number where document begins]
Section 2131.D.3 | Filling of Gasoline Storage Vessels | 2/20/2001 | 7/05/2011 [Insert FR page number where document begins]
Section 2131.E.1. and E.3 | Filling of Gasoline Storage Vessels | 12/20/1996 | 7/05/2011 [Insert FR page number where document begins]
| * * * * * * *
Section 2132. Stage II Vapor Recovery Systems for Control of Vehicle Refueling Emissions at Gasoline Dispensing Facilities
Section 2132.A | Definitions | 12/20/1997 | 7/05/2011 [Insert FR page number where document begins] | CARB; Stage II Vapor Recovery System.
Section 2132.A | Definitions | 4/20/2003 | 7/05/2011 [Insert FR page number where document begins] | Stage II Vapor Recovery System.
Section 2132.B | Applicability | 1/20/1998 | 7/05/2011 [Insert FR page number where document begins]
Section 2132.B.4.a-d | Applicability | 12/20/1997 | 7/05/2011 [Insert FR page number where document begins]
Section 2132.B.5 | Applicability | 4/20/2003 | 7/05/2011 [Insert FR page number where document begins]
Section 2132.B.6.b | Applicability | 12/20/1997 | 7/05/2011 [Insert FR page number where document begins]
Section 2132.B.6.c.iii | Applicability | 12/20/1997 | 7/05/2011 [Insert FR page number where document begins]
Section 2132.D | Testing | 12/20/1997 | 7/05/2011 [Insert FR page number where document begins]
Section 2132.D.2 | Testing | 4/20/2003 | 7/05/2011 [Insert FR page number where document begins]
Section 2132.E | Labeling | 12/20/1997 | 7/05/2011 [Insert FR page number where document begins]
Section 2132.F | Inspection | 12/20/1997 | 7/05/2011 [Insert FR page number where document begins]
Section 2132.G | Recordkeeping | 12/20/1997 | 7/05/2011 [Insert FR page number where document begins]
Section 2132.G.5 | Recordkeeping | 4/20/2003 | 7/05/2011 [Insert FR page number where document begins]
Section 2132.H | Enforcement | 12/20/1997 | 7/05/2011 [Insert FR page number where document begins]
Section H.1.a-b | Enforcement | 4/20/2003 | 7/05/2011 [Insert FR page number where document begins]
Section 2132.I | Fees | 12/20/1997 | 7/05/2011 [Insert FR page number where document begins]
Section 2133.A-E | Gasoline Bulk Plants | 6/20/1995 | 7/05/2011 [Insert FR page number where document begins]
Section 2133.D.2 | Gasoline Bulk Plants | 12/20/1996 | 7/05/2011 [Insert FR page number where document begins]
Section 2135.A | Bulk Gasoline Terminal | 1/20/1998 | 7/05/2011 [Insert FR page number where document begins]
Section 2135.D.1.-.4 | Bulk Gasoline Terminal | 12/20/1996 | 7/05/2011 [Insert FR page number where document begins]
Section 2137.A.-A.1. and B.1 | Gasoline Terminal Vapor-Tight Control Procedure | 12/20/1996 | 7/05/2011 [Insert FR page number where document begins]
| * * * * * * *
Subchapter G. Petroleum Refinery Operations
Section 2139.C | Refinery Vacuum Producing Systems | 5/20/1998 | 7/05/2011 [Insert FR page number where document begins]
| * * * * * * *
Subchapter H. Graphic Arts
Section 2143.A | Graphic Arts (Printing) by Rotogravure and Flexographic Processes. Control Requirements | 4/20/2004 | 7/05/2011 [Insert FR page number where document begins]
Section 2143.A.1 | Graphic Arts (Printing) by Rotogravure and Flexographic Processes. Control Requirements | 10/20/1999 | 7/05/2011 [Insert FR page number where document begins]
Section 2143.B | Applicability Exemption | 4/20/2004 | 7/05/2011 [Insert FR page number where document begins]
Section 2143.C.1.-3 | Compliance | 12/20/1996 | 7/05/2011 [Insert FR page number where document begins]
Section 2143.E | Timing | 4/20/2004 | 7/05/2011 [Insert FR page number where document begins]
| * * * * * * *
Subchapter I. Pharmaceutical Manufacturing Facilities
| * * * * * * *
Section 2145.F.2.-3 | Pharmaceutical Manufacturing Facilities | 12/20/1996 | 7/05/2011 [Insert FR page number where document begins]
Section 2145.F.4 | Pharmaceutical Manufacturing Facilities | 1/20/1998 | 7/05/2011 [Insert FR page number where document begins]
| * * * * * * *
Subchapter J. Limiting Volatile Organic Compound (VOC) Emissions from Reactor Processes and Distillation Operations in the Synthetic Organic Chemical Manufacturing Industry (SOCMI)
| * * * * * * *
Section 2147.A.1 | Applicability | 4/20/2004 | 7/05/2011 [Insert FR page number where document begins]
Section 2147.B | Definitions | 12/20/1996 | 7/05/2011 [Insert FR page number where document begins] | Halogenated Vent Stream; Total Organic Compounds.
Section 2147.B | Definitions | 11/20/1997 | 7/05/2011 [Insert FR page number where document begins] | Process Unit.
Section 2147.D.1.a | Total Effectiveness Determination, Performance Testing, and Exemption Testing | 11/20/1997 | 7/05/2011 [Insert FR page number where document begins]
Section 2147.D.3.-2147.D.4 | Total Effectiveness Determination, Performance Testing, and Exemption Testing | 7/20/1998 | 7/05/2011 [Insert FR page number where document begins]
Section D.5.a., D.5.a.ii.(a)-(b), D.5.b.i. and iii, D.5.c.-f | Total Effectiveness Determination, Performance Testing, and Exemption Testing | 12/20/1996 | 7/05/2011 [Insert FR page number where document begins]
Section 2147.D.7.-2147.D.9 | Total Effectiveness Determination, Performance Testing, and Exemption Testing | 11/20/1997 | 7/05/2011 [Insert FR page number where document begins]
| * * * * * * *
Subchapter K. Limiting Volatile Organic Compound (VOC) Emissions from Batch Processing
Section 2149.A.1 | Applicability | 4/20/2004 | 7/05/2011 [Insert FR page number where document begins]
Section 2149.E.2.a.-c.i | Performance Testing | 12/20/1996 | 7/05/2011 [Insert FR page number where document begins]
| * * * * * * *
Subchapter L. Limiting Volatile Organic Compound Emissions from Cleanup Solvent Processing
| * * * * * * *
Section 2151.A | Limiting Volatile Organic Compound Emissions from Cleanup Solvent Processing | 4/20/2004 | 7/05/2011 [Insert FR page number where document begins]
Section 2151.B., 2151.C., 2151.C.2-C.3., 2151.D.-E | Limiting Volatile Organic Compound Emissions from Cleanup Solvent Processing | 1/20/1998 | 7/05/2011 [Insert FR page number where document begins] | Closed-Loop Recycling; Cleaning of Parts.
Section 2151.F | Limiting Volatile Organic Compound Emissions from Cleanup Solvent Processing | 4/20/2004 | 7/05/2011 [Insert FR page number where document begins]
| * * * * * * *
Subchapter M. Limiting VOC Emissions from Industrial Wastewater
| * * * * * * *
Section 2153.A | Definitions | 5/20/1999 | 7/05/2011 [Insert FR page number where document begins] | Chemical Manufacturing Process Unit; Plant; Point of Determination; Properly Operated Biotreatment Unit.
Section 2153.A | Definitions | 4/20/2004 | 7/05/2011 [Insert FR page number where document begins] | Affected Source Category.
Section 2153.B., 2153.B.1.d. -d.ii., 2153.B.3.-4.b | Control Requirements | 5/20/1999 | 7/05/2011 [Insert FR page number where document begins]
Section 2153.D.2.c., 2153.D.3.h.iii.(b)-4.b | Inspection and Monitoring Requirements | 5/20/1999 | 7/05/2011 [Insert FR page number where document begins]
Section 2153.E.1.-5 | Approved Test Methods | 12/20/1996 | 7/05/2011 [Insert FR page number where document begins]
Section 2153.E.7.-10 | Approved Test Methods | 5/20/1999 | 7/05/2011 [Insert FR page number where document begins]
Section 2153.F.5 | Recordkeeping Requirements | 5/20/1999 | 7/05/2011 [Insert FR page number where document begins]
Section 2153.H.1 | Determination of Wastewater Characteristics | 5/20/1999 | 7/05/2011 [Insert FR page number where document begins]
Section 2153.I | Limiting VOC Emissions From Industrial Wastewater | 4/20/2004 | 7/05/2011 [Insert FR page number where document begins]
| * * * * * * *
Subchapter N. Method 43 Capture Efficiency Test Procedures
| * * * * * * *
Subchapter N | Subchapter N | 12/20/1996 | 7/05/2011 [Insert FR page number where document begins]
Section 2155 | Principle | 12/20/1996 | 7/05/2011 [Insert FR page number where document begins]
Section 2156.A | Definitions | 12/20/1997 | 7/05/2011 [Insert FR page number where document begins] | PTE; TTE.
Section 2156.A | Definitions | 10/20/2003 | 7/05/2011 [Insert FR page number where document begins] | BE.
Section 2157.A | Applicability | 12/20/1997 | 7/05/2011 [Insert FR page number where document begins]
Section 2157.B | Applicability | 8/20/2001 | 7/05/2011 [Insert FR page number where document begins]
Section 2158 | Specific Requirements | 12/20/1996 | 7/05/2011 [Insert FR page number where document begins]
Section 2158.C.1.-4 | Specific Requirements | 8/20/2001 | 7/05/2011 [Insert FR page number where document begins]
Section 2159 | Recordkeeping and Reporting | 12/20/1996 | 7/05/2011 [Insert FR page number where document begins]
Section 2159.D.-E | Recordkeeping and Reporting | 8/20/2001 | 7/05/2011 [Insert FR page number where document begins]
Section 2160 | Procedures | 12/20/1996 | 7/05/2011 [Insert FR page number where document begins]
Section 2160.A.-2160.B | Procedures | 8/20/2001 | 7/05/2011 [Insert FR page number where document begins]
Section 2160.C.4.d | Procedures | 7/20/1998 | 7/05/2011 [Insert FR page number where document begins]
Section 2160.D.4.d | Procedures | 7/20/1998 | 7/05/2011 [Insert FR page number where document begins]
Section 2199 | Appendix A | 11/20/1997 | 7/05/2011 [Insert FR page number where document begins]
| * * * * * * *
Chapter 22. Control of Emissions of Nitrogen Oxides (NOX)
| * * * * * * *
Section 2201.B | Definitions | 4/20/2004 | 7/05/2011 [Insert FR page number where document begins] | Affected Facility; Averaging Capacity; Combined Cycle, Low Ozone Season Capacity Factor Boiler or Process Heater/Furnace; Nitrogen Oxides.
Section 2201.C.1.-3 | Exemptions | 4/20/2004 | 7/05/2011 [Insert FR page number where document begins]
Section 2201.C.8 | Exemptions | 4/20/2004 | 7/05/2011 [Insert FR page number where document begins]
Section 2201.D.1 | Emission Factors | 4/20/2004 | 7/05/2011 [Insert FR page number where document begins]
Section 2201.D.4 | Emission Factors | 4/20/2004 | 7/05/2011 [Insert FR page number where document begins]
Section 2201.F.1.a | Permits | 4/20/2004 | 7/05/2011 [Insert FR page number where document begins]
Section 2201.F.5 | Permits | 4/20/2004 | 7/05/2011 [Insert FR page number where document begins]
Section 2201.F.1.c | Permits | 4/20/2004 | 7/05/2011 [Insert FR page number where document begins]
Section 2201.F.7.a | Permits | 10/20/2005 | 7/05/2011 [Insert FR page number where document begins]
Section 2201.G.2 | Initial Demonstration of Compliance | 4/20/2004 | 7/05/2011 [Insert FR page number where document begins]
Section 2201.H1.b.iii | Continuous Demonstration of Compliance | 4/20/2004 | 7/05/2011 [Insert FR page number where document begins]
Section 2201.H.2 | Continuous Demonstration of Compliance | 4/20/2004 | 7/05/2011 [Insert FR page number where document begins]
Section 2201.H.3 | Continuous Demonstration of Compliance | 4/20/2004 | 7/05/2011 [Insert FR page number where document begins]
| * * * * * * *
Chapter 23. Control of Emissions for Specific Industries
Subchapter A. Chemical Woodpulping Industry
Section 2301.D. and 2301.D.3 | Control of Emissions from the Chemical Woodpulping Industry. Emission Limitations | 12/20/1993 | 7/05/2011 [Insert FR page number where document begins]
Section 2301.D.4.a | Control of Emissions from the Chemical Woodpulping Industry. Emission Limitations | 10/20/2005 | 7/05/2011 [Insert FR page number where document begins]
Section 2301.E | Exemptions | 10/20/2006 | 7/05/2011 [Insert FR page number where document begins]
Subchapter B. Aluminum Plants
Section 2303.E | Standards for Horizontal Study Doderberg Primary Aluminum Plants and Prebake Primary Aluminum Plants. Monitoring | 10/20/2005 | 7/05/2011 [Insert FR page number where document begins]
Section 2303.F.1.d.2 | Standards for Horizontal Study Doderberg Primary Aluminum Plants and Prebake Primary Aluminum Plants. Reporting | 10/20/2005 | 7/05/2011 [Insert FR page number where document begins]
| * * * * * * *
Subchapter D. Nitric Acid Industry
| * * * * * * *
Section 2307.C.1.a | Emission Standards for the Nitric Acid Industry | 10/20/2005 | 7/05/2011 [Insert FR page number where document begins]
Section 2307.C.2.a | Emission Standards for the Nitric Acid Industry | 10/20/2005 | 7/05/2011 [Insert FR page number where document begins]
| * * * * * * *
Chapter 25. Miscellaneous Incinerator Rules
Subchapter A. Scope and General Provisions
Section 2501 | Scope | 10/20/1994 | 7/05/2011 [Insert FR page number where document begins]
Subchapter B. Biomedical Waste Incinerators
Section 2511 | Standards of Performance for Biomedical Waste Incinerators | 10/20/1994 | 7/05/2011 [Insert FR page number where document begins]
Section 2511.B | Definitions | 7/20/1998 | 7/05/2011 [Insert FR page number where document begins]
Section 2511.C | Registration | 10/20/2005 | 7/05/2011 [Insert FR page number where document begins]
Section 2511.E.5 | Restrictions on Emissions | 10/20/1995 | 7/05/2011 [Insert FR page number where document begins]
Section 2511.E.6.a.-d | Restrictions on Emissions | 12/20/1996 | 7/05/2011 [Insert FR page number where document begins]
| * * * * * * *
Subchapter C. Refuse Incinerators
Section 2521 | Refuse Incinerators | 10/20/1994 | 7/05/2011 [Insert FR page number where document begins]
Section 2521.E. and 2521.F.9.a.-d | Refuse Incinerators | 12/20/1996 | 7/05/2011 [Insert FR page number where document begins]
Section 2521.F.10 | Refuse Incinerators | 10/20/2005 | 7/05/2011 [Insert FR page number where document begins]
| * * * * * * *
Chapter 30. Standards of Performance from New Stationary Sources (NSPS)
Chapter 30 | Standards of Performance from New Stationary Sources (NSPS) | 12/20/1996 | 7/05/2011 [Insert FR page number where document begins]
Section 3001 | Repeal and Renumbering | 12/20/1996 | 7/05/2011 [Insert FR page number where document begins]
Subchapter A. Incorporation by Reference
Section 3003 | IBR 40 Code of Federal Regulations (CFR) Part 60 | 12/20/2006 | 7/05/2011 [Insert FR page number where document begins] |  |  | * * * * * *

[FR Doc. 2011-16634 Filed 7-1-11; 8:45 am]

BILLING CODE 6560-50-P